FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 011953-011.

Title: Florida Shipowners Group Agreement.

Parties: The member lines of the Caribbean Shipowners Association and the Florida-Bahamas Shipowners and Operators Association.

Filing Party: Wayne Rohde, Esq.; Cozen O'Connor; 1627 I Street NW.; Suite 1100; Washington, DC 20006.

Synopsis: The amendment revises the way the parties may change the formula for assessment of expenses and removes Florida-Bahamas Shipowners and Operators Agreement as a party effective December 31, 2011.

Agreement No.: 011960-007.

Title: The New World Alliance Agreement.

Parties: American President Lines, Ltd.; APL Co. Pte, Ltd.; Hyundai Merchant Marine Co., Ltd.; and Mitsui O.S.K. Lines, Ltd. (“MOL”).

Filing Parties: Robert B. Yoshitomi, Esq., Nixon Peabody LLP, 555 West Fifth Street, 46th Floor, Los Angeles, CA 90013; Eric Jeffrey, Esq., Goodwin Proctor LLP, 901 New York Ave. NW., Washington, DC 20001; and David F. Smith, Esq., Cozen O'Connor, 1627 I Street NW., Washington, DC 20006.

Synopsis: The amendment removes historical references to sub-charters previously contained in the agreement and amends the agreement to authorize sub-charters based solely on the written consent of the other parties.

Dated: December 16, 12011.
By Order of the Federal Maritime Commission.
Karen V. Gregory,
Secretary.

[FR Doc. 2011-32633 Filed 12-20-11; 8:45 am]

BILLING CODE 6730-01-P